DEPARTMENT OF THE INTERIOR

National Park Service

National Register of Historic Places; Notification of Pending Nominations

Nominations for the following properties being considered for listing in the National Register were received by the National Park Service before October 4, 2003. Pursuant to § 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service,1201 Eye St., NW., 8th floor, Washington, DC 20005; or by fax, 202-371-6447. Written or faxed comments should be submitted by November 14, 2003.

Carol D. Shull,
Keeper of the National Register of Historic Places.

ALABAMA

Barbour County

Clayton Historic District, Roughly along W. Louisville Ave., Midway St., Brouder St., and Eufala Ave., Clayton, 03001131

Dallas County

Old Town Historic District Boundary Increase and Additional Documentation, Jefferson Davis Ave.; area roughly bounded by Broad, Dallal, U.S. 80 and Franlin; Selma Ave.; and Franklin St., Selma, 03001137

Jefferson County

Country Club Historic District, Roughly bounded by Highland Ave, 33rd St., 38th St. Country Club Rd., Pawnee Ave. and 28th St., Birmingham, 03001133

Hanover Place Historic District, Roughly along Hanover Circle, 11th Ave., 26th Ave., Caldwell Park, and Highland Ave., Birmingham, 03001132

Milner Heights Historic District, Roughly along Niazuna Ave., Caldwell Ave., Miller Court, Milner Crescent, Arlington Ave., and 15th Ave., Birmingham, 03001130

South Highlands of East Lake Historic District, Roughly bounded by Oak Rd., 86th Place, 8th Ave., Vanderbilt St., and 5th Ave., Birmingham, 03001136

Woodlawn Historic District, Roughly bounded by 1st Ave. N, 47th St. N, 61st St. N, and I-20/59, Birmingham, 03001129

Madison County

Building at 305 Jefferson, (Downtown Huntsville MRA) 305 Jefferson St., Huntsville, 03001134

Marshall County

Guntersville City School, 1120 Rayburn Ave., Guntersville, 03001135

FLORIDA

Sarasota County

Rosemary Cemetery, 851 Central Ave., Sarasota, 03001143

GEORGIA

Thomas County

Hollywood Plantation, 1701 Old Monticello Rd., Thomasville, 03001138

KANSAS

Harvey County

Newton Main Street Historic District I, 200 through 215 and 203 through 301 N. Main St., Newton, 03001145

Newton Main Street Historic District II, 411-825 N. Main St. and 414-726 N. Main St., Newton, 03001146

LOUISIANA

Livingston Parish

Deslattes House, 15620 LA 16, French Settlement, 03001139

MISSISSIPPI

Warren County

South Cherry Street Historic District, (Vicksburg MPS) Along Cherry and Drummond Sts. from Harrison St. to Bowmar St. and including Chambers and Baum Sts., Vicksburg, 03001140

NEW MEXICO

Los Alamos County

Bayo Road, (Homestead and Ranch School Era Roads and Trails of Los Alamos, New Mexico MPS) Approx. 420 NW of jct. of Diamond Dr. and San Ildefonso Rd., Los Alamos, 03001141

NEW YORK

Albany County

Coeymans—Bronck Stone House, NY 144, Coeymans, 03001148

Columbia County

Houses at 37-47 North Fifth St., 37-47 N. Fifth St., Hudson, 03001142

Erie County

Delaware Avenue Methodist Episcopal Church, 339 Delaware Ave., Buffalo, 03001149

New York County

Bank of the Metropolis, 31 Union Square West, New York, 03001153

Brooks and Hewitt Halls, Jct. W. 116th St. and Claremont Ave., New York, 03001151

Milbank, Brinckerhoff, and Fiske Halls, Roughly bounded by W. 119th and W. 120th Sts., and Broadway and Claremont Aves., New York, 03001152

Students' Hall, Barnard College, 3005 Broadway, New York, 03001150

Schoharie County

Upper Middleburgh Cemetery, Huntersland Rd., Middleburgh, 03001144

Suffolk County

Cold Spring Harbor Fire District Hook and Ladder Company Building, Main St. at Elm Place, Cold Spring Harbor, 03001147

PENNSYLVANIA

Bradford County

Welles, Ellen and Charles F., House (Boundary Increase), 3 Grovedale Ln., Wyalusing, 03001156

York County

Ashton—Hursh House, 204 Limekiln Rd. (Fairview Township), New Cumberland, 03001155

TENNESSEE

Davidson County

Tennessee State Library and Archives, 403 7th Ave. N., Nashville, 03001154

Dyer County

Pleasant Hill Cemetery, Approx. .7 mi. W. of cattle gate at end of Cemetery Rd., Finley, 03001159

Maury County

Mount Pleasant Commercial Historic District, (Mount Pleasant MPS) Roughly bounded by N. and S. Main Sts., Public Sq. and Hay Long Ave., Mount Pleasant, 03001160

Robertson County

Red River Blockhouse Number 1, (Civil War Historic and Historic Archeological Resources in Tennessee MPS) 5461 U.S. 41, Adams, 03001157

Smith County

Battery Knob Earthworks, (Civil War Historic and Historic Archeological Resources in Tennessee MPS) Address Restricted, Carthage, 03001158

TEXAS

Bexar County

Carver, George Washington, Library and Auditorium, 226 N. Hackberry St., San Antonio, 03001162

Galveston County

Levy, E.S., Building, (Galveston Central Business District MRA) 2221-2225 Market St., Galveston, 03001163

McLennan County

Forsgard Homestead, 1116-1122 N. 4th St., Waco, 03001161

VERMONT

Grand Isle County

Hill, Ira, House, 2304 Main St., Isle La Motte, 03001164

Washington County

Union Co-operative Store Bakery, 46½ Granite St., Barre, 03001166

WISCONSIN

Milwaukee County

Pabst Brewing Company Complex, Roughly bounded by Highland Ave., 11th, Winnebago and 9th Sts., Milwaukee, 03001165

Vernon County

Bekkedal Leaf Tobacco Warehouse, 504 E. Decker, Viroqua, 03001167

[FR Doc. 03-27300 Filed 10-29-03; 8:45 am]

BILLING CODE 4312-51-P